ENVIRONMENTAL PROTECTION AGENCY

[FRL-8470-3]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses To Agency Clearance Requests

OMB Approvals

EPA ICR No. 0116.08; Emission Control System Performance Warranty Regulations and Voluntary Aftermarket Part Certification Program (Renewal); was approved 08/21/2007; OMB Number 2060-0060; expires 08/31/2010.

EPA ICR No. 2260.01; Confidential Financial Disclosure Form for Special Government Employees Serving on Federal Advisory Committees at the U.S. Environmental Protection Agency; was approved 08/31/2007; OMB Number 2090-0029; expires 02/29/2008.

EPA ICR No. 1063.10; NSPS for Sewage Sludge Treatment Plants (Renewal); in 40 CFR part 60, subpart O; was approved 08/30/2007; OMB Number 2060-0035; expires 08/31/2010.

EPA ICR No. 1966.03; NESHAP for Boat Manufacturing (Renewal); in 40 CFR part 63, subpart VVVV; was approved 09/10/2007; OMB Number 2060-0546; expires 09/30/2010.

EPA ICR No. 1611.06; NESHAP for Chromium Emissions from Hard and Decorative Chromium Electroplating and Chromium Anodizing Tanks (Renewal); in 40 CFR part 63, subpart N; was approved 09/10/2007; OMB Number 2060-0327; expires 09/30/2010.

Comment Filed

EPA ICR No. 2263.01; NSPS for Petroleum Refineries for which Construction, Reconstruction, or Modification Commenced after Date of Final Rule (Proposed Rule); in 40 CFR part 60, subpart Ja; OMB Number 2060-0602; OMB filed a comment on 09/04/2007.

EPA ICR No. 1230.19; Prevention of Significant Deterioration and Non-Attainment New Source Review: Emissions Test for Electric Generating Units (Proposed Rule); OMB Number 2060-0003; OMB filed a comment on 08/21/2007.

EPA ICR No. 1684.10; Information Requirements for Non-road and On-Highway Heavy-Duty Engines (Proposed Rule for Marine Engines); OMB Number 2060-0287; OMB filed a comment on 08/21/2007.

EPA ICR No. 2224.01; Exposure to n-propyl Bromide under the Significant New Alternatives Policy (SNAP) Program (Proposed Rule); OMB Number 2060-0601; OMB filed comments on 08/14/2007.

EPA ICR No. 1715.08; TSCA Section 402 and 404 Training and Certification, Accreditation and Standards for Lead-Based Paint Activities (Second Proposed Rule Addendum); OMB Number 2070-0155; OMB file comment on 09/10/2007.

Dated: September 11, 2007.
Sara Hisel-McCoy,
Acting Director, Collection Strategies Division.

[FR Doc. E7-18511 Filed 9-18-07; 8:45 am]

BILLING CODE 6560-50-P